DEPARTMENT OF HOUSING AND URBAN DEVELOPMENT

[Docket No. FR-7001-N-37]

30-Day Notice of Proposed Information Collection: Pre-Purchase Homeownership Counseling Demonstration and Impact Evaluation Collection

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: August 15, 2018.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Anna P. Guido, Reports Management Officer, QMAC, Department of Housing and Urban Development, 451 7th Street SW, Washington, DC 20410; email Anna P. Guido at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on March 23, 2018 at 83 FR 12806.

A. Overview of Information Collection

Title of Information Collection: Pre-Purchase Homeownership Counseling Demonstration and Impact Evaluation collection.

OMB Approval Number: 2528-0293.

Type of Request: Revision of currently approved collection.

Form Number: N/A.

Description of the need for the information and proposed use: The U.S. Department of Housing and Urban Development (HUD) is conducting a national study on the effectiveness of pre-purchase homeownership counseling services. This request covers four data collection activities: (1) Administering a final follow-up survey to study participants; (2) extending OMB approval #2528-0293 so that the study can continue to collect updated tracking information from study participants; and (3) extending OMB approval #2528-0293 so that the study can continue to collect consent from the co-borrowers of study participants; and (4) extending OMB approval #2528-0293 so that the study can continue to collect loan origination and servicing data from lenders. The final follow-up survey will be administered to study participants approximately 48 months after they completed the baseline survey. The final survey will provide a comparison of study participants' characteristics from the baseline survey and allow the study to better understand, document, and explain the impacts of first-time homebuyer education and counseling. As part of OMB approval #2528-0293, the study collects updated study participant contact information to locate study participants for the final follow-up survey. Maintaining contact with study participants over time is critical to minimizing attrition and ensuring high response rates to the follow-up surveys. Additionally, the collection of consent from study participants' co-borrowers is necessary to allow the study to collect data related to the characteristics and performance of study participants' mortgage loans. Lastly, as part of OMB approval #2528-0293, the study collects study participants' loan origination and service tracking data from the study's three participating lenders.

Respondents (i.e. affected public): Up to 5,854 study participants; approximately 1,000 co-borrowers; and, staff at 3 lenders.

The average time per study participant (up to 5,854 study participants) to complete the final follow-up survey is 30 minutes. The study mails study participant tracking letters twice per year. The average time for study participants' review of the letters and return of the tracking form is 5 minutes. The collection of co-borrower consent involves including the co-borrower consent form in the study's regular tracking letters, along with a request for the co-borrower to review, sign, and return the written consent form. For co-borrowers who do not return the written form, the study will collect consent verbally at the time of the interim survey. The study estimates that approximately 1,000 study participants will have co-borrowers. The co-borrowers' review of the co-borrower consent information and completion of the consent process is estimated to require approximately 5 minutes per co-borrower. The average time for lenders to prepare study participants' loan origination and performance data for the study team is 60 minutes. The study team will ask for this data semi-annually from each lender during the next 3 years from each lender. The total burden for the study is 3,949.64 hours: 3,903 hours for study participants, 83 hours for co-borrowers, and 6 hours for lenders.

Estimated Number of Respondents/Estimated Number of Responses:

Information collection | Number of respondents | Frequency of response | Responses per annum | Burden hours per response | Annual burden hours | Hourly cost per response | Annual cost
Long-Term Follow-Up Survey | 5,854.00 | 1.00 | 5,854.00 | 0.50 | 2,927.00 | * $27.70 | $81,077.90
Tracking Letter | 5,854.00 | 2.00 | 11,708.00 | 0.08 | 936.64 | * 27.70 | 25,944.92
Co-borrower consent form | 1,000.00 | 1.00 | 1,000.00 | 0.08 | 80.00 | * 27.70 | 2,216.00
Loan origination and performance data: Lenders | 3.00 | 2.00 | 6.00 | 1.00 | 6.00 | 35.00 | 210.00
Total | 12,711.00 |  |  |  | 3,949.64 |  | 109,448.82
* The average income that our study participants received in the last 12 months is $57,811. This estimate of average income is based on responses to the Short-Term Follow-Up Survey and was weighted to represent the full study sample using sample weights that adjust for follow-up survey nonresponse. Thus, the hourly rate for our study participants is estimated at $27.70 (using the U.S. Office of Personnel's national standard of 2,087 hours per year for a full-time employee).

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: June 28, 2018.
Anna P. Guido,
Department Reports Management Officer, Office of the Chief Information Officer.

[FR Doc. 2018-15130 Filed 7-13-18; 8:45 am]

BILLING CODE 4210-67-P